FEDERAL COMMUNICATIONS COMMISSION

[OGC; DA 23-1112; FR ID: 189138]

The Office of General Counsel Announces Posting of Plain-Language Summaries

AGENCY: Federal Communications Commission.

ACTION: Notice of availability.

SUMMARY: The Office of General Counsel announces that the Federal Communications Commission (FCC) has posted on fcc.gov (https://www.fcc.gov/proposed-rulemakings) plain-language summaries of its Notices of Proposed Rulemaking, Further Notices of Proposed Rulemaking, and certain Public Notices that have been published in the Federal Register since July 25, 2023. The summaries provide an interested non-specialist with a brief overview of the FCC's proposed rules to facilitate public engagement with the rulemaking, consistent with the Providing Accountability Through Transparency Act of 2023.

DATES: Availability Date: December 11, 2023.

ADDRESSES: Federal Communications Commission, 45 L Street NE, Washington, DC 20554.

FOR FURTHER INFORMATION CONTACT: Wade Lindsay, Office of General Counsel, at wade.lindsay@fcc.gov or (202) 418-1557.

SUPPLEMENTARY INFORMATION: The Office of General Counsel announces posting of plain-language summaries. Effective July 25, 2023, the Providing Accountability Through Transparency Act of 2023, Public Law 118-9, amended section 553(b) of the Administrative Procedure Act by adding paragraph (4). New section 553(b)(4) requires each government agency, when it is required to publish notice of a rule making in the Federal Register, to include a link to a plain-language summary of not more than 100 words of the proposed rule and to post that summary on the website used for agency electronic rulemaking dockets. The FCC is complying with this new requirement by posting online a summary of each new Notice of Proposed Rulemaking (NPRM), Further Notice of Proposed Rulemaking (FNPRM), and Public Notice (PN) seeking comment published in the Proposed Rules section of the Federal Register after July 25, 2023. This list of plain-language summaries does not include summaries of final rules, if adopted. The plain-language summaries are being posted on a web page hosted on fcc.gov, https://www.fcc.gov/proposed-rulemakings.

To facilitate public engagement with the FCC's rulemakings, each NPRM, FNPRM, and PN the FCC publishes in the Proposed Rules section of the Federal Register now includes language directing the reader to the plain-language summary web page, https://www.fcc.gov/proposed-rulemakings. Below is a list of NPRMs, FNPRMs, and PNs published in the Proposed Rules section of the Federal Register after July 25, 2023, that did not include such language. Brief plain-language summaries of the following NPRMs, FNPRMs, and PNs are available on https://www.fcc.gov/proposed-rulemakings.

1. Expanding Flexible Use of the 3.7 to 4.2 GHz Band, GN Docket No. 18-122, Public Notice, DA 23-958 (rel. Oct. 13, 2023).

2. Amendment of Section 73.622(j)) Television Broadcast Stations (Wittenberg and Shawano, Wisconsin), MB Docket No. 23-336, RM-11967, Notice of Proposed Rulemaking, DA 23-936 (rel. Oct. 6, 2023).

3. Amendment of Section 73.622(j), Table of TV Allotments, Television Broadcast Stations (Jacksonville, Oregon), MB Docket No. 23-285, RM-11959, Notice of Proposed Rulemaking, DA 23-904 (rel. Sept. 28, 2023).

4. Telecommunications Relay Services and Speech-to-Speech Services for Individuals with Hearing and Speech Disabilities; Structure and Practices of the Video Relay Service Program, CG Docket No. 03-123, CG Docket No. 10-51, Report and Order and Further Notice of Proposed Rulemaking, FCC 23-78 (rel. Sept. 28, 2023).

5. Establishing a 5G Fund for Rural America, GN Docket No. 20-32, Further Notice of Proposed Rulemaking, FCC 23-74 (Sept. 22, 2023).

6. Expediting Initial Processing of Satellite and Earth Station Applications; Space Innovation, IB Docket No. 22-411, IB Docket No. 22-271, Report and Order and Further Notice of Proposed Rulemaking, FCC 23-73 (rel. Sept. 22, 2023).

7. In the Matter of Numbering Policies for Modern Communications; Telephone Number Requirements for IP-Enabled Service Providers; Implementation of TRACED Act Section 6(a)—Knowledge of Customers by Entities with Access to Numbering Resources; Process Reform for Executive Branch Review of Certain FCC Applications and Petitions Involving Foreign Ownership, WC Docket No. 13-97, WC Docket No. 07-243, WC Docket No. 20-67, IB Docket No. 16-155, Second Report and Order and Second Further Notice of Proposed Rulemaking, FCC 23-75 (rel. Sept. 22, 2023).

8. Allocation of Spectrum for Non-Federal Space Launch Operations Amendment of Part 2 of the Commission's Rules for Federal Earth Stations Communicating with Non-Federal Fixed Satellite Service Space Stations; and Federal Space Station Use of the 399.9-400.05 MHz Band, ET Docket No. 13-115, RM-11341, Second Report and Order and Second Further Notice of Proposed Rulemaking, DA 23-76 (rel. Sept. 22, 2023).

9. Amendment of Section 73.622(j), Table of TV Allotments, Television Broadcast Stations (La du Flambeau, Wisconsin), MB Docket No. 23-302, RM-11965, Notice of Proposed Rulemaking, DA 23-813 (rel. Sept. 6, 2023).

10. Amendment of Section 73.622(j), Table of TV Allotments, Television Broadcast Stations (Des Moines, Iowa), MB Docket No. 23-296, RM-11964, Notice of Proposed Rulemaking, DA 23-774 (rel. Aug. 29, 2023).

11. Amendment of Section 73.622(j), Table of TV Allotments, Television Broadcast Stations (Winnemucca, Nevada), MB Docket No. 23-286, RM-11960, Notice of Proposed Rulemaking, DA 23-749 (rel. Aug. 23, 2023).

12. Amendment of Section 73.622(j), Table of Allotments, Television Broadcast Stations (Idaho Falls, Idaho), MB Docket No. 23-287, RM-11961, Notice of Proposed Rulemaking, DA 23-750 (rel. Aug. 23, 2023).

13. Possible Revision or Elimination of Rules, Public Notice, DA 23-710 (rel. Aug. 17, 2023).

14. Amendment of Section 73.622(j), Table of TV Allotments, Television Broadcast Stations (Tulare, California), MB Docket No. 23-279, RM-11956, Notice of Proposed Rulemaking, DA 23-703 (rel. Aug. 16, 2023).

15. Amendment of Section 73.622(j), Table of TV Allotments, Television Broadcast Stations (Colusa, California), MB Docket No. 23-280, RM-11957, Notice of Proposed Rulemaking, DA 23-705 (rel. Aug. 16, 2023).

16. Amendment of Section 73.622(j), Table of TV Allotments, Television Broadcast Stations (Alamogordo, New Mexico), MB Docket No. 23-281, RM-11958, Notice of Proposed Rulemaking, DA 23-706 (rel. Aug. 16, 2023).

17. In the Matter of Cybersecurity Labeling for Internet of Things, PS Docket No. 23-239, Notice of Proposed Rulemaking, FCC 23-65 (rel. Aug. 6. 2023).

18. Rates for Interstate Inmate Calling Services, WC Docket No. 23-62, WC Docket No. 12-375, Public Notice, DA 23-656 (rel. Aug. 3, 2023).

19. Modifying Rules for FM Terrestrial Digital Audio Broadcasting Systems, MB Docket No. 22-405, Order and Notice of Proposed Rulemaking, FCC 23-61 (rel. Aug. 1, 2023).

20. Connect America Fund: A National Broadband Plan for Our Future High-Cost Universal Service Support; ETC Annual Reports and Certifications; Telecommunications Carriers Eligible To Receive Universal Service Support; Connect America Fund—Alaska Plan; Expanding Broadband Service Through the ACAM Program, WC Docket No. 10-90, WC Docket No. 14-58, WC Docket No. 09-197, WC Docket No. 16-271, RM-11868, Notice of Proposed Rulemaking, FCC 23-60 (rel. July 23, 2023).

21. Access to Video Conferencing; Implementation of Sections 716 and 717 of the Communications Act of 1934, as Enacted by the Twenty-First Century Communications and Video Accessibility Act of 2010, et al., CG Docket No. 23-161, CG Docket No. 10-213, CG Docket No. 03-123, Report and Order, Notice of Proposed Rulemaking, and Order, FCC 23-50 (June 12, 2023).

22. Shared Use of the 42-42.5 GHz Band, WT Docket No. 23-158, GN Docket No. 14-177, Notice of Proposed Rulemaking, FCC 23-51 (rel. June 9, 2023).

23. Review of International Authorizations To Assess Evolving National Security, Law Enforcement, Foreign Policy, and Trade Policy Risks; Amendment of the Schedule of Application Fees, IB Docket No. 23-119, MD Docket No. 23-134, Order and Notice of Proposed Rulemaking, FCC 23-28 (rel. Apr. 25, 2023).

Federal Communications Commission.
Marlene Dortch,
Secretary.

[FR Doc. 2023-27103 Filed 12-8-23; 8:45 am]

BILLING CODE 6712-01-P